DEPARTMENT OF TRANSPORTATION

Federal Railroad Administration

[Docket Number FRA-2008-0097]

Petition for Extension of Waiver of Compliance

Under part 211 of title 49 Code of Federal Regulations (CFR), this document provides the public notice that by letter dated May 8, 2024, New Jersey Transit (NJT) petitioned the Federal Railroad Administration (FRA) for an extension of a waiver of compliance from certain provisions of the Federal railroad safety regulations contained at 49 CFR part 218 (Railroad Operating Practices). The relevant Docket Number is FRA-2008-0097.

Specifically, NJT requests continued relief from § 218.29(c)(1), Alternate methods of protection, which states that “when workers are on, under, or between rolling equipment on any track, other than main track: a derail . . . will fulfill the requirements of a manually operated switch when positioned no less than 150 feet from the end [of] such equipment.” This relief permits NJT to instead apply the requirements of § 218.29(a)(4), which allows a derail to be positioned “at least 50 feet from the end of the equipment to be protected by the blue signal,” at the Morrisville Yard facility in Morrisville, Pennsylvania.

In support of its request, NJT states that since the waiver has been in effect, no accidents, incidents, or injuries have occurred due to the relief. Additionally, NJT continues to enforce a speed restriction of 5 miles per hour and ensure that a Yard Master is present at the Morrisville Yard 7 days per week and for 24 hours per day, per the conditions of the relief.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by September 3, 2024 will be considered by FRA before final action is taken. Comments received after that date will be considered if practicable.

Anyone can search the electronic form of any written communications and comments received into any of the Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-14626 Filed 7-2-24; 8:45 am]

BILLING CODE 4910-06-P